DEPARTMENT OF COMMERCE

Census Bureau

Proposed Information Collection; Comment Request; 2007 Economic Census Covering the Retail Trade and Accommodation and Food Services Sectors

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 3, 2006.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Fay Dorsett, U.S. Census Bureau, Room 2679, Building 3, Washington, DC 20233-0001 (301-763-2687 or via the Internet at fdorsett@census.gov.

SUPPLEMENTARY INFORMATION:

I. Abstract

The economic census, conducted under authority of Title 13, United States Code (USC), is the primary source of facts about the structure and functioning of the Nation's economy. Economic statistics serve as part of the framework for the national accounts and provide essential information for government, business, and the general public. The economic data are the Census Bureau's primary program commitment during nondecennial census years. The 2007 Economic Census covering the retail trade and accommodation and food services sectors (as defined by the North American Industry Classification System (NAICS)) will measure the economic activity of more than 1.8 million establishments. The information collected will produce basic statistics by kind of business on the number of establishments, sales, payroll, and employment. It will also yield a variety of subject statistics, including sales by product line, sales by class of customer, and other industry-specific measures. Primary strategies for reducing burden in Census Bureau economic data collections are to increase reporting through standardized questionnaires and broader electronic data collection methods.

II. Method of Collection

Mail Selection Procedures: Establishments in the retail trade and accommodation and food services sectors of the economic census will be selected from the Census Bureau's Business Register for a mail canvass. To be eligible for selection, an establishment will be required to satisfy the following conditions: (i) It must be classified in the retail trade or accommodation and food services sector; (ii) it must be an active operating establishment of a multi-establishment firm (i.e., a firm that operates at more than one physical location), or it must be a single-establishment firm with payroll (i.e., a firm operating at only one physical location); and (iii) it must be located in one of the 50 states or the District of Columbia. Mail selection procedures will distinguish the following groups of establishments:

1. Establishments of Multi-Establishment Firms

All active operating establishments of multi-establishment firms will be included in the mail component of the potential respondent universe. We estimate that the 2007 Economic Census mail canvasses for the retail trade and accommodation and food services sectors will include approximately 722,000 establishments of multi-establishment firms.

2. Single-Establishment Firms With Payroll

As an initial step in the selection process, we will conduct a study of the potential respondent universe. This study will produce a set of industry-specific payroll cutoffs that we will use to distinguish large versus small single-establishment firms within each industry or kind of business. This payroll size distinction will affect selection as follows:

a. Large Single-Establishment Firms—All single-establishment firms having annualized payroll (from Federal administrative records) that equals or exceeds the cutoff for their industry will be included in the mail component of the potential respondent universe. We estimate that the 2007 Economic Census mail canvasses for the retail trade and accommodation and food services sectors will include approximately 553,000 large single-establishment firms.

b. Small Single-Establishment Firms—A sample of single-establishment firms having annualized payroll below the cutoff for their industry will be included in the mail component of the potential respondent universe. Sampling strata and corresponding probabilities of selection will be determined by a study of the potential respondent universe conducted shortly before the mail selection operations begin. We estimate that the 2007 Economic Census mail canvasses for the retail trade and accommodation and food services sectors will include approximately 133,000 small single-establishment firms selected in this sample.

All remaining single-establishment firms with payroll will be represented in the census by data from Federal administrative records. Generally, we will not include these small employers in the census mail canvasses. However, administrative records sometimes have fundamental industry classification deficiencies that make them unsuitable for use in producing detailed industry statistics by geographic area. When we find such a deficiency, we will mail the firm a census classification form. We estimate that the 2007 Economic Census mail canvasses for the retail trade and accommodation and food services sectors will include approximately 445,000 small single-establishment firms that receive these forms.

III. Data

OMB Number: None.

Form Number: The 33 standard forms, seven classification forms, and two ownership or control fliers used to collect information from businesses in these sectors of the Economic Census are tailored to specific business practices and are too numerous to list separately in this notice. Requests for information on the proposed content of the forms should be directed to Fay Dorsett, U.S. Census Bureau, Room 2679, Building 3, Washington, DC 20233-0001 (301-763-2687 or via the Internet at fdorsett@census.gov).

Type of Review: Regular review.

Affected Public: State or local governments, business or other for-profit organizations, or non-profit institutions.

Estimated Number of Respondents: 1,853,000.

Retail Trade (Standard Form)—964,000; Retail Trade (Classification Form)—194,000; Accommodation and Food Services (Standard Form)—444,000; and Accommodation and Food Services (Classification Form)—251,000.

Estimated Time Per Response: Retail Trade (Standard Form)—1 hour; Retail Trade (Classification Form)—12 minutes; Accommodation and Food Services (Standard Form) — 1 hour; and Accommodation and Food Services (Classification Form)—12 minutes.

Estimated Total Annual Burden Hours: 1,497,000.

Retail Trade (Standard Form)—964,000

Retail Trade (Classification Form)—38,800

Accommodation and Food Services (Standard Form)—444,000

Accommodation and Food Services (Classification Form)—50,200

Estimated Total Annual Cost: $36,930,990.

Respondent's Obligation: Mandatory.

Legal Authority: Title 13, U.S.C., 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 26, 2006.
Gwellnar Banks,
Management Analyst, Office of the Chief Information Officer.

[FR Doc. E6-1303 Filed 1-31-06; 8:45 am]

BILLING CODE 3510-07-P